DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2012, there were eight applications approved. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: San Diego County Regional Airport Authority, San Diego, California.

Application Number: 12-10-C-00-SAN.

Application Type: Impose and use a PFC.

PFC Level: $4.50.

Total PFC Revenue Approved in This Decision: $31,299,883.

Earliest Charge Effective Date: October 1, 2036.

Estimated Charge Expiration Date: November 1, 2037.

Class of Air Carriers Not Required to Collect PFC'S: Nonscheduled/on demand air carriers filing FAA Form 1800-31.

Determination: Approved. Based on information contained in the public agency's application, the FAA has determined that the proposed class accounts for less than 1 percent of the total annual enplanements at San Diego International Airport.

Brief Description of Projects Approved for Collection and Use at a $4.50 PFC Level:

Rehabilitate taxiway C.

Quieter home program—phase IV.

Brief Description of Project Approved for Collection and Use at a $3.00 PFC Level:

Airport master plan update.

Brief Description of Project Approved for Collection at a $4.50 PFC Level:

Relocate runway 09 displaced threshold.

Decision Date: July 3, 2012.

FOR FURTHER INFORMATION CONTACT: Darlene Williams, Los Angeles Airports District Office, (310) 725-3625.

Public Agency: County of Gregg, Longview, Texas.

Application Number: 12-03-C-00-GGG.

Application Type: Impose and use a PFC.

PFC Level: $4.50.

Total PFC Revenue Approved in This Decision: $1,178,540.

Earliest Charge Effective Date: February 1, 2013.

Estimated Charge Expiration Date: September 1, 2023.

Class of Air Carriers Not Required to Collect PFC's: None.

Brief Description of Projects Approved for Collection and Use:

Security fencing.

Planning studies.

Aircraft rescue and firefighting truck.

Acquire equipment.

Rehabilitate taxiways (taxiways B, C, D, G, L, and M).

Rehabilitate runway 18/36.

Rehabilitate runway 13/31.

Runway 13/31 safety area improvements.

Acquire snow removal equipment.

PFC application and administration fees.

Decision Date: July 10, 2012.

FOR FURTHER INFORMATION CONTACT: Guillermo Villalobos, Texas Airports Development Office, (817) 222-5657.

Public Agency: City of Dayton, Ohio.

Application Number: 12-07-C-00-DAY.

Application Type: Impose and use a PFC.

PFC Level: $4.50.

Total PFC Revenue Approved in This Decision: $7,439,375.

Earliest Charge Effective Date: November 1, 2017.

Estimated Charge Expiration Date: April 1, 2019.

Class of Air Carriers Not Required to Collect PFC's: Air taxi/commercial operators filing FAA Form 1800-31.

Determination: Approved. Based on information contained in the public agency's application, the FAA has determined that the proposed class accounts for less than 1 percent of the total annual enplanements at Dayton International Airport.

Brief Description of Project Approved for Collection and Use at a $4.50 PFC Level:

Airport terminal renovations.

Brief Description of Project Approved for Collection and Use at a $3.00 PFC Level:

Terminal planning study.

Decision Date: July 11, 2012.

FOR FURTHER INFORMATION CONTACT: Mary Jagiello, Detroit Airports District Office, (734) 229-2956.

Public Agency: City of Modesto, California.

Application Number: 12-09-C-00-MOD.

Application Type: Impose and use a PFC.

PEG Level: $4.50.

Total PEG Revenue Approved in This Decision: $273,845.

Earliest Charge Effective Date: December 1, 2012.

Estimated Charge Expiration Date: December 1, 2015.

Class of Air Carriers Not Required to Collect PFC'S: None.

Brief Description of Projects Approved for Collection and Use:

Apron rehabilitation—general aviation.

Enhance runway 10R/28L safety area.

Decision Date: July 12, 2012.

FOR FURTHER INFORMATION CONTACT: Neil Kumar, San Francisco Airports District Office, (650) 827-7627.

Public Agency: Bert Mooney Airport Authority, Butte, Montana.

Application Number: 12-10-C-00-BTM.

Application Type: Impose and use a PFC.

PFC Level: $4.50.

Total PFC Revenue Approved in This Decision: $397,526.

Earliest Charge Effective Date: February 1, 2013.

Estimated Charge Expiration Date: March 1, 2017.

Class of Air Carriers not Required to Collect PEG'S:

Air taxi/commercial operators filing FAA Form 1800-31.

Determination: Approved. Based on information contained in the public agency's application, the FAA has determined that the proposed class accounts for less than 1 percent of the total annual enplanements at Bert Mooney Airport.

Brief Description of Projects Approved for Collection and Use:

Runway 11/29 pavement rehabilitation.

Taxiway B pavement rehabilitation.

Runway 15/33 pavement rehabilitation.

Aircraft rescue and firefighting equipment acquisition.

Security enhancements.

Rehabilitate concrete commercial apron.

General aviation apron pavement rehabilitation.

Decision Date: July 12, 2012.

FOR FURTHER INFORMATION CONTACT: Jason Garwood, Helena Airports District Office, (406) 449-5078.

Public Agency: City of Waco, Texas.

Application Number: 12-05-C-00-ACT.

Application Type: Impose and use a PFC.

PFC Level: $4.50.

Total PFC Revenue Approved in This Decision: $788,280.

Earliest Charge Effective Date: December 1, 2012.

Estimated Charge Expiration Date: January 1, 2016.

Class of Air Carriers not Required to Collect PFC'S: Air taxi/commercial operators filing FAA Form 1800-31.

Determination: Approved. Based on information contained in the public agency's application, the FAA has determined that the proposed class accounts for less than 1 percent of the total annual enplanements at Waco Regional Airport.

Brief Description of Project Approved for Collection and Use:

Passenger loading bridges.

Taxiway rehabilitation, phase 1.

Apron rehabilitation, phase 1.

PFC preparation.

Taxiway rehabilitation, phase 2.

Apron rehabilitation, phase 2.

Decision Date: July 12, 2012.

FOR FURTHER INFORMATION CONTACT: Guillermo Villalobos, Texas Airports Development Office, (817) 222-5657.

Public Agency: City of Roswell, New Mexico.

Application Number: 12-05-C-00-ROW.

Application Type: Impose and use a PFC.

PFC Level: $4.50.

Total PFC Revenue Approved in This Decision: $486,683.

Earliest Charge Effective Date: February 1, 2019.

Estimated Charge Expiration Date: April 1, 2022.

Class of Air Carriers not Required to Collect PFC'S: None.

Brief Description of Projects Approved for Collection and Use:

Terminal renovation.

Acquisition snow removal equipment—front end loader.

Wildlife hazard assessment.

Rehabilitate taxiway G, design and construction.

Rehabilitate taxiway C, design and construction.

Acquire aircraft rescue and firefighting truck.

Design and construct runway 17/35 rehabilitation.

PFC administration costs.

Decision Date: July 13, 2012.

FOR FURTHER INFORMATION CONTACT: Mike Saupp, Louisiana/New Mexico Airports Development Office, (817) 222-5645.

Public Agency: City of Greenville, Mississippi.

Application Number: 12-06-C-00-GLH.

Application Type: Impose and use a PFC.

PFC Level: $4.50.

Total PFC Revenue Approved in This Decision: $114,263.

Earliest Charge Effective Date: September 1, 2012.

Estimated Charge Expiration Date: October 1, 2015.

Class of Air Carriers not Required to Collect PFC'S: Air taxi/commercial operators.

Determination: Approved. Based on information contained in the public agency's application, the FAA has determined that the proposed class accounts for less than 1 percent of the total annual enplanements at Mid-Delta Regional Airport.

Brief Description of Projects Approved for Collection and Use:

PFC update.

Airfield ramp repair.

Master plan update.

Road relocation and fencing, apron slab replacement.

Wildlife hazard assessment.

Brief Description of Projects Approved for Collection:

Terminal security lighting.

Airport drainage improvements.

Runway 18L approach lighting.

Runway 18L136R drainage improvements, phase 1.

Brief Description of Disapproved Project: Fire suppression system renovation.

Determination: Disapproved. The project does not meet the requirements of § 158.15(b).

Decision Date: July 23, 2012.

FOR FURTHER INFORMATION CONTACT: Jonathan Linguist, Jackson Airports District Office, (601) 664-9893.

Amendments to PFC Approvals
Amendment No., City, State | Amendment approved date | Original approved net PFC revenue | Amended approved net PFC revenue | Original estimated charge exp. date | Amended estimated charge exp. date
10-08-C-01-SAV, Savannah, GA | 05/03/12 | $4,066,265 | $6,669,248 | 04/01/16 | 12/01/16
*02-02-C-01-GGG, Longview, TX | 07/10/12 | 699,232 | 699,232 | 12/01/12 | 01/01/13
08-04-C-01-CHA, Chattanooga, TN | 07/11/12 | 2,413,001 | 2,520,376 | 10/01/12 | 10/01/12
12-04-C-01-SBY, Salisbury, MD | 07/12/12 | 937,983 | 937,983 | 02/01/17 | 02/01/17
09-04-C-01-ACT, Waco, TX | 07/12/12 | 790,163 | 754,153 | 09/01/12 | 12/01/12
11-09-C-01-GEG, Spokane, WA | 07/13/12 | 10,215,000 | 16,365,000 | 09/01/14 | 11/01/15
09-09-C-01-EAT, Wenatchee, WA | 07/13/12 | 105,268 | 104,916 | 04/01/10 | 04/01/10
95-02-C-08-STL, Saint Louis, MO | 07/16/12 | 67,032,109 | 73,311,090 | 07/01/97 | 07/01/97
97-03-U-05-STL, Saint Louis, MO | 07/16/12 | NA | NA | 07/01/97 | 07/01/97
08-09-C-01-STL, Saint Louis, MO | 07/16/12 | 783,625,492 | 755,733,688 | 02/01/22 | 02/01/22
*09-02-C-01-FLG, Flagstaff, AZ | 07/17/12 | 1,157,023 | 1,208,991 | 02/01/15 | 04/01/15
92-01-C-02-SMF, Sacramento, CA | 07/19/12 | 27,651,750 | 20,010,436 | 01/01/96 | 01/01/96
95-02-C-02-SMF, Sacramento, CA | 07/19/12 | 2,677,360 | 1,390,230 | 03/01/97 | 03/01/97
02-07-C-01-SMF, Sacramento, CA | 07/19/12 | 4,208,200 | 2,041,219 | 07/01/11 | 07/01/11
02-05-C-01-RNO, Reno, NV | 07/19/12 | 6,734,192 | 6,940,843 | 02/01/03 | 02/01/03
08-02-C-03-PIE, Clearwater, FL | 07/23/12 | 6,628,510 | 10,528,075 | 11/01/12 | 08/01/14
Notes: The amendments denoted by an asterisk (*) include a change to the PFC level charged from $3.00 per enplaned passenger to $4.50 per enplaned passenger. For Longview, TX and Flagstaff, AZ, this change is effective on September 1, 2012.

Issued in Washington, DC, on August 13, 2012.
Joe Hebert,
Manager, Financial Analysis and Passenger Facility Charge Branch.

[FR Doc. 2012-20169 Filed 8-16-12; 8:45 am]

BILLING CODE 4910-13-M